DEPARTMENT OF EDUCATION

[CFDA No: 84.359]

Early Reading First; Notice of Deadline

AGENCY: Department of Education.

ACTION: Notice of deadline for State educational agencies to identify eligible local educational agencies for Early Reading First and of alternate eligibility standard for the initial year's (fiscal year 2002) Early Reading First grant competition.

SUMMARY: In this notice, the Secretary sets a deadline for State educational agencies (SEAs) to identify and provide a list of eligible local educational agencies (LEAs) upon which applicant eligibility will be based for those grants, and establishes a standard that the Department will use in the absence of timely SEA information. Early Reading First grants are authorized by subpart 2 of part B of title I of the Elementary and Secondary Education Act of 1965 (ESEA). The Secretary will be inviting applications for new grant awards for fiscal year (FY) 2002 for the Early Reading First Program in a separate notice published in the Federal Register.

DATES: State Data Submission Deadline: The Department must receive the submission by April 30, 2002.

SUPPLEMENTARY INFORMATION:

Background

Under the Early Reading First Program, $75 million is available for FY 2002 for direct competitive grants from the Department to eligible LEAs, and to public and private organizations in communities served by those LEAs (or one or more of those LEAs in collaboration with one or more of those organizations). Those agencies and organizations will use the Early Reading First funds to support early education programs and teach preschool-age children to develop the early language and cognitive skills that they need to enter kindergarten ready to learn to read and succeed under State standards.

Early Reading First, for preschool-age children, complements the Reading First State Grants Program, which focuses on school-age children. The Reading First State Grants Program is aimed at helping children in every State become successful readers through high-quality, classroom-focused reading instruction. Reading First State Grants will help school districts establish high-quality, comprehensive reading instruction for all children in kindergarten through third grade.

Eligible Applicants

The Early Reading First statute ties grant applicant eligibility to basic LEA eligibility for Reading First State Grants subgrants. Specifically, to meet the basic eligibility criteria under the Reading First State Grants Program (and, thus, the Early Reading First Program), each eligible school district (LEA) must be:

• Among the LEAs in the State with the highest numbers or percentages of students in kindergarten through grade 3 reading below grade level, based on the most currently available data (and a State may use the lowest grade for which it has those data, such as grade 4, up through grade 5); and also qualify under one of the following categories as an LEA that:

• Has jurisdiction over a geographic area that includes an area designated as an empowerment zone (EZ) or an enterprise community (EC).

• Has jurisdiction over a significant number or percentage of schools that are identified for school improvement under section 1116(b) of title I of the ESEA (or the predecessor statutory authority).

• Has the highest numbers or percentages of children who are counted under section 1124(c) of title I of the ESEA (the number of children counted for Title I Basic Grants to LEAs).

Because LEA eligibility information from all Reading First State Grant applications is not expected to be available for many months, the Department is asking SEAs to help the Department by identifying and providing a list of eligible LEAs for Early Reading First now, under the above Reading First statutory criteria, before States files their Reading First State Grants applications and hold their Reading First State Grants subgrant competitions. This will assist LEAs and other applicants in each State in applying for Early Reading First Funds.

An LEA's eligibility for the purpose of the initial year's (FY 2002) Early Reading First grant competition will be determined as follows—

• For an LEA within any State for which the SEA submits an eligible LEA list by April 30, 2002, only those LEAs identified by the State at the time of the State's submission will be considered eligible.

• For an LEA within any State for which the SEA does not submit an eligible LEA list by April 30, 2002, only those LEAs identified by the U.S. Department of Education (under the alternative Title I Basic Grants child count standard described below) will be considered eligible.

Any LEA status changes, or later revisions that an SEA may make to an SEA-generated Early Reading First eligible LEA list for purposes other than correction, will not affect the eligibility of Early Reading First applicants in the initial year's (FY 2002) Early Reading First grant competition.

Information Request and Deadline

To help LEAs and other applicants in each State in applying for Early Reading First funds, and to assist the Department in administering the initial year's (FY 2002) Early Reading First grant competition, the Department invites SEAs to identify and provide to the Department a list of eligible LEAs in the State under Reading First. Specifically, the Secretary requests that each SEA, by April 30, 2002, provide to the Department a list of eligible LEAs for Early Reading First based upon the statutory criteria for Reading First (indicated above) relating to reading achievement, EZ/EC, school improvement, and poverty.

The Department will make available to each State, and at the website location noted below, an Excel spreadsheet and instructions for States to use in providing this information. The Excel spreadsheet identifies basic information for all of the LEAs currently in the National Center for Education Statistics Common Core of Data (CCD) for each State, and information available from Federal records (EZ/EC and Title I Basic Grant child count information) for each of those LEAs.

In addition, Excel spreadsheet identifies those LEAs the Department will consider eligible if an SEA chooses not to identify eligible LEAs by April 30. The spreadsheet also provides space for SEAs to use if the SEA chooses to identify LEAs as eligible for the Early Reading First grant competition under the Reading First statutory criteria indicated above.

The spreadsheet and accompanying instructions are available on the Department's website at http://www.ed.gov/offices/OESE/earlyreading/index.html. The Department requests SEAs to submit the LEA eligibility information electronically if possible, using the Excel spreadsheet. If it is not possible for an SEA to submit the LEA eligibility information electronically, the SEA should follow the directions below under “SEA Submission of Information” for other methods of submission. If an SEA uses a format other than the Excel spreadsheet to identify the eligible LEAs, the SEA also should provide to the Department the name of the State in which the eligible LEAs are located, and the date that the SEA identified those eligible LEAs.

Eligibility Standard for Applicants in States that Do Not Submit a List of Eligible LEAs by Deadline

So that the Department can make timely awards of Early Reading First funds for the initial year's (FY 2002) competition, if an SEA does not identify and provide to the Department a list of LEAs eligible for Early Reading First, using the Reading First statutory criteria, by the April 23, 2002 deadline, the Department will identify eligible LEAs in that State for Early Reading First grants (upon which the Early Reading First applicant pool is based) using solely the Title I Basic Grant allocation child count for FY 2001. This information is available from Federal records.

Specifically, the Department will consider as eligible LEAs for these States: (1) LEAs in which at least 20 percent of children are counted by the Department under section 1124(c) of title I of the ESEA (the number of children counted for Title I basic grants to LEAs) for FY 2001; and (2) LEAs with at least 10,000 of those children. These LEAs will be identified on the Excel spreadsheet that will be available on the Department's website at http://www.ed.gov/offices/OESE/earlyreading/index.html.

State Submission of Information

If an SEA chooses to submit LEA eligibility information for Early Reading First, the Department requests the SEA to submit that information electronically, by sending it to ERF@ed.gov as an e-mail attachment. If that is not possible, States should send the information as follows:

• By FAX: 202-205-0303 (Attention: Tracy Bethel).

• By FedEx, other mail carrier, or mail: Patricia McKee, Group Leader, Compensatory Education Programs, Office of Elementary and Secondary Education, U.S. Department of Education, 400 Maryland Avenue, SW., Room 3W106, Washington, DC 20202.

FOR FURTHER INFORMATION CONTACT: • Questions about the Early Reading First Program or this notice, contact Patricia McKee by e-mail at ERF@ed.gov, or Tracy Bethel or Jennifer Flood by telephone at 202-260-4555.

• Questions about the Reading First State Grants Program, contact Chris Doherty by e-mail at chris.doherty@ed.gov, or by telephone at 202-401-2176.

If you use a telecommunications device for the deaf (TDD), you may call the Federal Information Relay Service (FIRS) at 1-800-877-8339. Individuals with disabilities may obtain this document in an alternative format (e.g., Braille, large print, audiotape, or computer diskette) on request to Tracy Bethel or Jennifer Flood as listed under this section.

Waiver of Proposed Rulemaking

It is the Secretary's practice, in accordance with the Administrative Procedure Act (5 U.S.C. 553), to offer interested parties the opportunity to comment on proposed requirements that are not taken directly from statute. Ordinarily, this practice would have applied to the requirements in this notice. Section 437(d)(1) of the General Education Provisions Act (GEPA), however, exempts from this requirement rules that apply to the first competition under a new or substantially revised program authority. To ensure timely awards of Early Reading First grants, the Secretary, in accordance with section 437(d)(1) of GEPA, has decided to forego public comment with respect to the State data submission deadline, and the eligibility standards and threshold levels.

Paperwork Reduction Act Considerations

As required by the Paperwork Reduction Act, the Office of Management and Budget has approved this information collection under OMB control number 1810-0647, which expires August 31, 2002.

Electronic Access to This Document

You may view this document, as well as all other Department of Education documents published in the Federal Register, in text or Adobe Portable Document Format (PDF) on the Internet at the following site: www.ed.gov/legislation/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: Subpart 2, part B, title I of the ESEA, Pub. L. 107-110.

Dated: April 8, 2002.
Susan B. Neuman,
Assistant Secretary for Elementary and Secondary Education.

[FR Doc. 02-8808 Filed 4-9-02; 8:45 am]

BILLING CODE 4000-01-M